DEPARTMENT OF TRANSPORTATION

Federal Aviation Administration

14 CFR Part 39

[Docket No. FAA-2017-0627; Directorate Identifier 2017-NM-037-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter, -200, and -300 series airplanes; and Airbus Model A340-200, -300, -500, and -600 series airplanes. This proposed AD was prompted by a report that the trimmable horizontal stabilizer actuator (THSA) might not function as intended after failure of the primary load path. This proposed AD would require repetitive detailed visual inspections for discrepancies of the THSA upper attachments and no-back housing. We are proposing this AD to address the unsafe condition on these products.

DATES: We must receive comments on this proposed AD by August 14, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0627; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2017-0627; Directorate Identifier 2017-NM-037-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2017-0044, dated March 9, 2017 (referred to after this as the Mandatory Continuing Airworthiness Information, or “the MCAI”), to correct an unsafe condition for all Airbus Model A330-200 Freighter, -200 and -300 series airplanes; and Airbus Model A340-200, -300, -500, and -600 series airplanes. The MCAI states:

The Trimmable Horizontal Stabilizer Actuator (THSA), as installed on A330 and A340 aeroplanes, was initially designed to stall when engaging on the upper secondary load path (SLP) after primary load path (PLP) failure. Such stall triggers system monitoring detection. New mission profile analysis revealed that in some cases, the THSA could be operated while engaged on the upper SLP without stalling [i.e., the THSA might not function as intended after failure of the primary load path]. The partial engagement of the SLP at upper attachment level does not trigger any indication to the flight crew.

This condition, if not detected and corrected, could lead to THSA upper attachment failure and consequent disconnection of the THSA from the aeroplane structure, possibly resulting in loss of control of the aeroplane.

For the reasons described above, this [EASA] AD requires repetitive detailed [visual] inspections (DET) of the upper THSA attachments parts and the PLP and SLP fuselage attachment points, and, depending on findings (which include, but are not limited to, failure of the primary load path), accomplishment of applicable [additional inspections for discrepancies and] corrective action(s).

The additional inspections include a detailed visual inspection for discrepancies of the upper attachment fitting of the airplane and a detailed visual inspection for discrepancies of the removed THSA. Corrective actions include repair and replacement of the THSA. You may examine the MCAI in the AD docket on the Internet at http://www.regulations.gov by searching for and locating Docket No. FAA-2017-0627.

Related Service Information Under 1 CFR Part 51

We reviewed the following Airbus service information:

• Airbus Service Bulletin A330-27-3218, Revision 01, dated December 5, 2016.

• Airbus Service Bulletin A340-27-4203, Revision 01 dated December 5, 2016.

• Airbus Service Bulletin A340-27-5067, Revision 01 dated December 5, 2016.

The service information describes procedures for detailed visual inspections for discrepancies of the THSA upper attachments and no-back housing, additional inspections for discrepancies, and corrective actions. These documents are distinct since they apply to different airplane models. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 102 airplanes of U.S. registry.

We estimate the following costs to comply with this proposed AD:

Estimated Costs
Action | Labor cost | Parts cost | Cost per product | Cost on U.S. operators
Inspection | 3 work-hours × $85 per hour = $255 per inspection cycle | $0 | $255 per inspection cycle | $26,010

We estimate the following costs to do any necessary replacements that would be required based on the results of the proposed inspection. We have no way of determining the number of aircraft that might need this replacement.

On-Condition Costs
Action | Labor cost | Parts cost | Cost per product
Replacement | 20 work-hours × $85 per hour = $1,700 | $734,661 | $736,361

We have received no definitive data that would enable us to provide cost estimates for other on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2017-0627; Directorate Identifier 2017-NM-037-AD.

(a) Comments Due Date

We must receive comments by August 14, 2017.

(b) Affected ADs

None.

(c) Applicability

This AD applies to Airbus Model A330-201, -202, -203, -223, -223F, -243, -243F, -301, -302, -303, -321, -322, -323, -341, -342 and -343 airplanes; and Airbus Model A340-211, -212, -213, -311, -312, -313, -541, and -642 airplanes; certificated in any category, all manufacturer's serial numbers.

(d) Subject

Air Transport Association (ATA) of America Code 27, Flight Controls.

(e) Reason

This AD was prompted by a report that the trimmable horizontal stabilizer actuator (THSA) might not function as intended after failure of the primary load path. We are issuing this AD to detect and correct discrepancies of the THSA upper attachments and no-back housing, which could lead to THSA upper attachment failure and consequent disconnection of the THSA from the airplane structure, possibly resulting in loss of control of the airplane.

(f) Compliance

Comply with this AD within the compliance times specified, unless already done.

(g) Repetitive Detailed Visual Inspections

Before exceeding the Threshold in Table 1 to paragraph (g) of this AD, as applicable, or within 3 months after the effective date of this AD, whichever occurs later; and thereafter at intervals not to exceed the inspection interval values defined in Table 1 to paragraph (g) of this AD; accomplish a detailed visual inspection for discrepancies of the trimmable horizontal stabilizer actuator (THSA) upper attachments and no-back housing, in accordance with the Accomplishment Instructions of Airbus Service Bulletin A330-27-3218, Revision 01, A340-27-4203, Revision 01, or A340-27-5067, Revision 01, all dated December 5, 2016, as applicable. Where the “Threshold” column of table 1 to paragraph (g) of this AD specifies compliance times in “FH” (flight hours) or “FC” (flight cycles), those compliance times are flight hours or flight cycles since the first flight of the airplane, or since the last accomplishment of Airbus Model A330 or A340 Maintenance Review Board Report task 27.40.00/07, or since the last detailed visual inspection of the THSA done in accordance with the Accomplishment Instructions of Airbus Service Bulletin A330-27-3218, A340-27-4203, or A340-27-5067, all dated July 1, 2016, as applicable.

Table 1 to Paragraph (g) of This AD—THSA Upper Attachments/No-Back Housing Inspections
Affected airplanes | Compliance times (whichever occurs first, flight hours (FH) or flight cycles (FC)): Threshold | Compliance times (whichever occurs first, flight hours (FH) or flight cycles (FC)): Inspection interval (not to exceed)
A330, A340-200 and A340-300 | Before 4,000 FH or 1,000 FC | 4,000 FH or 1,000 FC.
A340-500 and A340-600 | Before 4,000 FH or 800 FC | 4,000 FH or 800 FC.

(h) Additional Inspections and Corrective Actions

(1) If, during any inspection required by paragraph (g) of this AD, any discrepancy identified in the Accomplishment Instructions of Airbus Service Bulletin A330-27-3218, Revision 01, A340-27-4203, Revision 01, or A340-27-5067, Revision 01, all dated December 5, 2016, as applicable, is detected, before further flight, remove the THSA, and accomplish a detailed visual inspection for discrepancies of the upper attachment fitting of the airplane and a detailed visual inspection for discrepancies of the removed THSA, in accordance with the Accomplishment Instructions of Airbus Service Bulletin A330-27-3218, Revision 01, A340-27-4203, Revision 01, or A340-27-5067, Revision 01, all dated December 5, 2016, as applicable. As an alternative to the removed THSA inspections required by this paragraph, before further flight, replace the THSA with a serviceable part (as defined in paragraph (i) of this AD).

(2) If, during any inspection of the upper attachment fitting of the airplane required by paragraph (h)(1) of this AD, any discrepancy identified in the Accomplishment Instructions of Airbus Service Bulletin A330-27-3218, Revision 01, A340-27-4203, Revision 01, or A340-27-5067, Revision 01, all dated December 5, 2016, as applicable, is detected, before further flight, repair using a method approved in accordance with the procedures specified in paragraph (k)(2) of this AD.

(3) If, during any inspection of the removed THSA required by paragraph (h)(1) of this AD, no discrepancy specified in the Accomplishment Instructions of Airbus Service Bulletin A330-27-3218, Revision 01, A340-27-4203, Revision 01, or A340-27-5067, Revision 01, all dated December 5, 2016, as applicable, is detected, before further flight, reinstall the THSA, in accordance with the Accomplishment Instructions of Airbus Service Bulletin A330-27-3218, Revision 01, A340-27-4203, Revision 01, or A340-27-5067, Revision 01, all dated December 5, 2016, as applicable.

(4) If, during any inspection of the removed THSA required by paragraph (h)(1) of this AD, any discrepancy specified in the Accomplishment Instructions of Airbus Service Bulletin A330-27-3218, Revision 01, A340-27-4203, Revision 01, or A340-27-5067, Revision 01, all dated December 5, 2016, as applicable, is detected, before further flight, replace the THSA with a serviceable part (as defined in paragraph (i) of this AD), in accordance with the Accomplishment Instructions of Airbus Service Bulletin A330-27-3218, Revision 01, A340-27-4203, Revision 01, or A340-27-5067, Revision 01, all dated December 5, 2016, as applicable.

(i) Definition of Serviceable THSA

For the purpose of this AD, a serviceable THSA is a part that has accumulated less than 4,000 FH or 1,000 FC (for Airbus Model A330, A340-200, or A340-300 airplanes) or 4,000 FH or 800 FC (for Airbus Model A340-500 or A340-600 airplanes), whichever occurs first since the first flight of the airplane, or since the last overhaul of the THSA, or since the last detailed visual inspection of the THSA in accordance with the Accomplishment Instructions of Airbus Service Bulletin A330-27-3218, Revision 01, A340-27-4203, Revision 01, or A340-27-5067, Revision 01, all dated December 5, 2016, as applicable.

(j) Credit for Previous Actions

This paragraph provides credit for actions required by paragraphs (g), (h)(1), (h)(3), and (h)(4) of this AD, if those actions were performed before the effective date of this AD using the service information specified in paragraph (j)(1), (j)(2), or (j)(3) of this AD.

(1) Airbus Service Bulletin A330-27-3218, Revision 00, dated July 1, 2016.

(2) Airbus Service Bulletin A340-27-4203, Revision 00, dated July 1, 2016.

(3) Airbus Service Bulletin A340-27-5067, Revision 00, dated July, 1 2016.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Except as required by paragraph (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2017-044, dated March 9, 2017, for related information. This MCAI may be found in the AD docket on the Internet at http://www.regulations.gov by searching for and locating Docket No. FAA-2017-0627.

(2) For more information about this AD, contact Vladimir Ulyanov, Aerospace Engineer, International Branch, ANM-116, Transport Airplane Directorate, FAA, 1601 Lind Avenue SW., Renton, WA 98057-3356; telephone 425-227-1138; fax 425-227-1149.

(3) For service information identified in this AD, contact Airbus SAS, Airworthiness Office-EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on June 22, 2017.
John P. Piccola, Jr.,
Acting Manager, Transport Airplane Directorate, Aircraft Certification Service.

[FR Doc. 2017-13780 Filed 6-29-17; 8:45 am]

BILLING CODE 4910-13-P